DEPARTMENT OF TRANSPORTATION

Federal Aviation Administration

14 CFR Part 39

[Docket No. 2000-NM-31-AD; Amendment 39-12018; AD 2000-24-11]

RIN 2120-AA64

Airworthiness Directives; McDonnell Douglas Model MD-11 Series Airplanes

AGENCY: Federal Aviation Administration, DOT.

ACTION: Final rule.

SUMMARY: This amendment supersedes an existing airworthiness directive (AD), applicable to certain McDonnell Douglas Model MD-11 series airplanes, that currently requires a one-time inspection to detect discrepancies at certain areas around the entry light connector of the sliding ceiling panel above the forward passenger doors, and repair, if necessary. For certain airplanes, that AD also requires installation or modification of a flapper door ramp deflector on the forward entry drop ceiling structure. For certain other airplanes, that AD requires inspection of the wire assembly support installation for evidence of chafing, and corrective actions, if necessary. For certain airplanes subject to the existing AD, as well as additional airplanes being added to the applicability of this AD, this action adds a requirement for modification of a support bracket for the ramp deflector assembly. This action is necessary to prevent chafing of electrical wire assemblies above the forward passenger doors, which could result in an electrical fire in the passenger compartment. This action is intended to address the identified unsafe condition.

DATES: Effective January 8, 2001.

The incorporation by reference of McDonnell Douglas Alert Service Bulletin MD11-25A194, Revision 06, dated January 27, 2000, as listed in the regulations, is approved by the Director of the Federal Register as of January 8, 2001.

The incorporation by reference of McDonnell Douglas Alert Service Bulletin MD11-25A194, Revision 05, dated June 21, 1999; and McDonnell Douglas Alert Service Bulletin MD11-24A068, Revision 01, dated March 8, 1999, as listed in the regulations, was approved previously by the Director of the Federal Register as of March 23, 2000 (65 FR 8034, February 17, 2000).

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2000-03-10, amendment 39-11569 (65 FR 8034, February 17, 2000), which is applicable to certain McDonnell Douglas Model MD-11 series airplanes, was published in the Federal Register on July 27, 2000 (65 FR 46206). That action proposed to continue to require a one-time inspection to detect discrepancies at certain areas around the entry light connector of the sliding ceiling panel above the forward passenger doors, and repair, if necessary. For certain airplanes, that action also proposed to continue to require installation or modification of a flapper door ramp deflector on the forward entry drop ceiling structure. For certain other airplanes, that action also proposed to continue to require inspection of the wire assembly support installation for evidence of chafing, and corrective actions, if necessary. For certain airplanes subject to the existing AD, as well as additional airplanes being added to the applicability of this new AD, that action proposed to add a requirement for modification of a support bracket for the ramp deflector assembly.

Comments

Interested persons have been afforded an opportunity to participate in the making of this amendment. No comments were submitted in response to the proposal or the FAA's determination of the cost to the public.

Conclusion

The FAA has determined that air safety and the public interest require the adoption of the rule as proposed.

Cost Impact

There are approximately 110 airplanes of the affected design in the worldwide fleet. The FAA estimates that 21 airplanes of U.S. registry will be affected by this AD.

The inspection to detect discrepancies around the entry light connector of the slide ceiling panel above the forward passenger doors that is currently required by AD 2000-03-10 takes approximately 2 work hours per airplane to accomplish, at an average labor rate of $60 per work hour. Based on these figures, the cost impact of this currently required inspection on U.S. operators is estimated to be $2,520, or $120 per airplane.

For Group 1 airplanes as specified in McDonnell Douglas Alert Service Bulletin MD11-25A194, Revision 06 (approximately 16 airplanes of U.S. registry), the installation of the flapper door ramp deflector that is currently required by AD 2000-03-10 takes approximately 8 work hours per airplane to accomplish, at an average labor rate of $60 per work hour. Required parts cost approximately $455 per airplane. Based on these figures, the cost impact of this currently required installation on U.S. operators of Group 1 airplanes is estimated to be $14,960, or $935 per airplane.

For Group 2 airplanes as specified in McDonnell Douglas Alert Service Bulletin MD11-25A194, Revision 06 (approximately 8 airplanes of U.S. registry), the installation of the flapper door ramp deflector that is currently required by AD 2000-03-10 takes approximately 8 work hours per airplane to accomplish, at an average labor rate of $60 per work hour. Required parts cost approximately $890 per airplane. Based on these figures, the cost impact of this currently required installation on U.S. operators of Group 2 airplanes is estimated to be $10,960, or $1,370 per airplane.

For airplanes listed in McDonnell Douglas Alert Service Bulletin MD11-24A068, Revision 01, dated March 8, 1999 (approximately 21 airplanes of U.S. registry), the inspection of the wire assembly support installation that is currently required by AD 2000-03-10 takes approximately 1 work hour per airplane to accomplish, at an average labor rate of $60 per work hour. Based on these figures, the cost impact of this currently required inspection on U.S. operators is estimated to be $1,260, or $60 per airplane.

For airplanes in Groups 1 and 3 as specified in McDonnell Douglas Alert Service Bulletin MD11-25A194, Revision 06 (approximately 18 airplanes of U.S. registry), the new modification that is required in this AD action will take approximately 2 work hours per airplane to accomplish, at an average labor rate of $60 per work hour. Based on these figures, the cost impact of this required modification on U.S. operators is estimated to be $2,160, or $120 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11569 (65 FR 8034, February 17, 2000), and by adding a new airworthiness directive (AD), amendment 39-12018, to read as follows:

2000-24-11 McDonnell Douglas: Amendment 39-12018. Docket 2000-NM-31-AD. Supersedes AD 2000-03-10, Amendment 39-11569.

Applicability: Model MD-11 series airplanes; as listed in McDonnell Douglas Alert Service Bulletin MD11-25A194, Revision 06, dated January 27, 2000; and MD11-24A068, Revision 01, dated March 8, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent chafing of electrical wire assemblies above the forward passenger doors, which could result in an electrical fire in the passenger compartment, accomplish the following:

Restatement of the Requirements of AD 2000-03-10

Detailed Visual Inspection

(a) For airplanes listed in McDonnell Douglas Alert Service Bulletins

MD11-25A194, Revision 05, dated June 21, 1999, and MD11-24A068, Revision 01, dated March 8, 1999: Within 10 days after December 28, 1998 (the effective date of AD 98-25-11 R1, amendment 39-10988), perform a detailed visual inspection of the aircraft wiring to detect discrepancies that include but are not limited to frayed, chafed, or nicked wires and wire insulation in the areas specified in paragraphs (a)(1) and (a)(2) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) At the area of the forward drop ceiling just outboard of mod block S3-735, and forward and inboard of the light ballast for the entry light on the sliding ceiling panel above the forward left passenger door (1L) at station location x = 24.75, y = 435, and z = 64.5.

(2) At the area above the forward right passenger door (1R) at station location x = −30, y = 430, and z = 70 in the ramp deflector assembly part number 4223570-501.

Corrective Action

(b) If any discrepancy is detected during the visual inspection required by paragraph (a) of this AD, prior to further flight, repair in accordance with Chapter 20, Standard Wiring Practices of the MD-11 Wiring Diagram Manual, dated January 1, 1998, or April 1, 1998.

Inspection, Installation, and Modification

(c) For airplanes listed in McDonnell Douglas Alert Service Bulletin MD11-25A194, Revision 05, dated June 21, 1999; or MD11-24A068, Revision 01, dated March 8, 1999: Within 6 months after March 23, 2000 (the effective date of AD 2000-03-10, amendment 39-11569), accomplish the actions specified in paragraphs (c)(1), (c)(2), (c)(3), and (c)(4) of this AD, as applicable.

(1) For Group 1 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(2) For Group 2 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

Note 3: Installation of a ramp deflector assembly in accordance with McDonnell Douglas Service Bulletin MD11-25-194, dated March 15, 1996; Revision 01, dated May 1, 1996; Revision 02, dated July 12, 1996; Revision 03, dated December 12, 1996; or Revision 04, dated March 8, 1999, is acceptable for compliance with the requirements of paragraph (c)(2) of this AD.

(3) For Group 3 airplanes listed in McDonnell Douglas Alert Service Bulletin MD11-25A194, Revision 05, dated June 21, 1999: Modify the previously installed ramp deflector assembly bracket in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(4) For airplanes listed in McDonnell Douglas Alert Service Bulletin MD11-24A068, Revision 01, dated March 8, 1999: Perform a general visual inspection of the wire assembly support installation for evidence of chafing, in accordance with the service bulletin. If any chafing is detected, prior to further flight, repair or replace any discrepant part with a new part in accordance with the service bulletin.

Note 4: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being check.”

New Requirements of this AD

One-Time Inspection

(d) For airplanes other than those identified in paragraph (a) of this AD: Within 10 days after the effective date of this AD, perform a detailed visual inspection of the aircraft wiring to detect discrepancies that include but are not limited to frayed, chafed, or nicked wires and wire insulation in the areas specified in paragraphs (a)(1) and (a)(2) of this AD. If any discrepancy is found, prior to further flight, repair in accordance with the requirements of paragraph (b) of this AD.

Note 5: Accomplishment of the inspection required by paragraph (a) of AD 98-25-11 R1, amendment 39-10988, prior to the effective date of this AD is acceptable for compliance with paragraph (d) of this AD.

Modification

(e) For airplanes listed in Group 3 of McDonnell Douglas Alert Service Bulletin MD11-25A194, Revision 06, dated January 27, 2000: Within 6 months after the effective date of this AD, modify the ramp deflector assembly support bracket on the right side forward entry door drop ceiling structure, in accordance with McDonnell Douglas Alert Service Bulletin MD11-25A194, Revision 06, dated January 27, 2000.

Alternative Methods of Compliance

(f) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 6: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Incorporation by Reference

(h) The actions provided by paragraphs (c)(1), (c)(2), (c)(3), (c)(4), and (e) of this AD shall be done in accordance with McDonnell Douglas Alert Service Bulletin MD11-25A194, Revision 05, dated June 21, 1999; McDonnell Douglas Alert Service Bulletin MD11-25A194, Revision 06, dated January 27, 2000; or McDonnell Douglas Alert Service Bulletin MD11-24A068, Revision 01, dated March 8, 1999; as applicable.

(1) The incorporation by reference of McDonnell Douglas Alert Service Bulletin MD11-25A194, Revision 06, dated January 27, 2000, is approved by the Director of the Federal Register in accordance with 5 U.S.C. 552(a) and 1 CFR part 51.

(2) The incorporation by reference of McDonnell Douglas Alert Service Bulletin MD11-25A194, Revision 05, dated June 21, 1999; and McDonnell Douglas Alert Service Bulletin MD11-24A068, Revision 01, dated March 8, 1999, was approved previously by the Director of the Federal Register as of March 23, 2000 (65 FR 8034, February 17, 2000).

(3) Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Los Angeles ACO, 3960 Paramount Boulevard, Lakewood, California; or at the Office of the Federal Register, 800 North Capitol Street, NW., suite 700, Washington, DC.

Effective Date

(i) This amendment becomes effective on January 8, 2001.

Issued in Renton, Washington, on November 22, 2000.
Donald L. Riggin,
Acting Manager, Transport Airplane Directorate, Aircraft Certification Service.

[FR Doc. 00-30436 Filed 12-1-00; 8:45 am]

BILLING CODE 4910-13-P